ENVIRONMENTAL PROTECTION AGENCY

40 CFR Parts 52 and 81

[PA215-4229; FRL-7777-5]

Approval and Promulgation of Air Quality Implementation Plans; Pennsylvania; Redesignation of the Warren County SO2 Nonattainment Areas and the Mead and Clarendon Unclassifiable Areas to Attainment and Approval of the Maintenance Plan

AGENCY: Environmental Protection Agency (EPA).

ACTION: Final rule.

SUMMARY: EPA is approving a request by the Commonwealth of Pennsylvania to redesignate the sulfur dioxide (SO2) nonattainment areas of Conewango Township, Pleasant Township, Glade Township, and the City of Warren in Warren County from nonattainment to attainment of the national ambient air quality standards (NAAQS) for SO2. In addition, EPA is approving the Commonwealth's request to change the status of Mead Township and Clarendon Borough in Warren County from unclassifiable to attainment of the NAAQS for SO2. EPA is also approving the maintenance plan for these areas submitted by the Commonwealth as a revision to the Pennsylvania State Implementation Plan (SIP). This plan provides for the maintenance of the NAAQS for SO2 for the next ten years. These actions are being taken in accordance with the Clean Air Act (CAA).

DATES: Effective Date: This final rule is effective on August 2, 2004.

ADDRESSES: Copies of the documents relevant to this action are available for public inspection during normal business hours at the Air Protection Division, U.S. Environmental Protection Agency, Region III, 1650 Arch Street, Philadelphia, Pennsylvania 19103, the Air and Radiation Docket and Information Center, U.S. Environmental Protection Agency, 1301 Constitution Avenue, NW., Room B108, Washington, DC 20460, and the Pennsylvania Department of Environmental Protection, Bureau of Air Quality, P.O. Box 8468, 400 Market Street, Harrisburg, Pennsylvania 17105.

FOR FURTHER INFORMATION CONTACT: Ellen Wentworth, (215) 814-2034, or by e-mail at wentworth.ellen@epa.gov.

SUPPLEMENTARY INFORMATION:

I. Background

On April 9, 2004 (69 FR 18853), EPA proposed to approve the Commonwealth of Pennsylvania's (the Commonwealth's) request to redesignate the areas of Conewango Township, Pleasant Township, Glade Township, and the City of Warren in Warren County, Pennsylvania, from nonattainment to attainment of the NAAQS for SO2. EPA's April 9, 2004 notice of proposed rulemaking (NPR) also proposed approval of the Commonwealth's request to change the status of Mead Township and Clarendon Borough in Warren County from unclassifiable to attainment of the NAAQS for SO2. Finally, EPA's NPR published on April 9, 2004 proposed to approve the maintenance plan for these areas submitted by the Pennsylvania Department of Environmental Protection (PADEP) as a SIP revision.

EPA proposed approval of these requests on April 9, 2004 under a procedure called parallel processing, whereby EPA proposes its rulemaking action on a SIP revision concurrently with a state's procedures for amending its SIP. The PADEP submitted its redesignation requests and proposed SIP revision to EPA on March 15, 2004 for parallel processing. No comments were submitted to EPA on the NPR it published on April 9, 2004 proposing to approve the Commonwealth's March 15, 2004 submittal. The Commonwealth concluded its SIP revision procedures, and the PADEP submitted the formal SIP revision along with the redesignation requests to EPA on May 7, 2004. That final version of the submittal had no substantive changes from the proposed version submitted to EPA on March 15, 2004. A detailed description of Pennsylvania's submittal and EPA's rationale for its proposed approval of the redesignation requests and maintenance plan were presented in the NPR published on April 9, 2004, and will not be restated here.

II. Final Action

EPA is redesignating the areas of Conewango Township, Pleasant Township, Glade Township, and the City of Warren, in Warren County, Pennsylvania from nonattainment to attainment of the NAAQS for SO2, and is changing the status of Mead Township and Clarendon Borough in Warren County, Pennsylvania, from unclassifiable to attainment of the NAAQS for SO2. EPA is also approving a maintenance plan for these areas submitted by the PADEP on May 7, 2004 as a revision to the Pennsylvania SIP.

III. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by August 30, 2004. Filing a petition for reconsideration by the Administrator of this final rule, which redesignates Conewango Township, Pleasant Township, Glade Township, and the City of Warren, in Warren County, Pennsylvania, to attainment of the NAAQS for SO2, changes the status of Clarendon Borough and Mead Township in Warren County from unclassifiable to attainment for SO2, and approves a maintenance plan for these areas as a SIP revision, does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Incorporation by reference, Intergovernmental relations, Reporting and recordkeeping requirements, Sulfur oxides.

40 CFR Part 81

Air pollution control, National parks, Wilderness areas.

Dated: June 14, 2004.
Thomas C. Voltaggio,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(224) to read as follows:

§ 52.2020 Identification of plan.

* * * * *

(c) * * *

(224) The SO2 Redesignation Request and Maintenance Plan for Conewango Township, Pleasant Township, Glade Township, and the City of Warren in Warren County, Pennsylvania, submitted on May 7, 2004, by the Pennsylvania Department of Environmental Protection:

(i) Incorporation by reference.

(A) Letter of May 7, 2004 from the Pennsylvania Department of Environmental Protection transmitting the redesignation request and the maintenance plan for the SO2 nonattainment areas of Conewango Township, Pleasant Township, Glade Township, and the City of Warren, in Warren County, Pennsylvania.

(B) The Conewango Township, Pleasant Township, Glade Township, and City of Warren, Warren County Sulfur Dioxide Maintenance Plan, dated May, 2004.

(ii) Additional Material.

(A) Remainder of the State submittal pertaining to the revisions listed in paragraph (c)(224)(i) of this section.

(B) Letter of March 15, 2004 from the Pennsylvania Department of Environmental Protection, transmitting the redesignation request and maintenance plan for the Conewango Township, Pleasant Township, Glade Township, and the City of Warren, and the request to change the status of Mead Township and Clarendon Borough.

PART 81—[AMENDED]

1. The authority citation for part 81 continues to read as follows:

Authority: 42 U.S.C. 7401 et seq.

Subpart C—Section 107 Attainment Status Designations

2. Section 81.339, the table for “Pennsylvania—SO2” is amended by revising the entry for Warren County to read as follows:

§ 81.339 Pennsylvania

* * * * *

Pennsylvania-SO2
Designated area | Does not meet primary standards | Does not meet secondary standards | Cannot be classified | Better than national standards
* * * * * * *
VI. Northwest Pennsylvania Intrastate AQCR:
(A) WarrenCounty:
Conewango Twp |  |  |  | X
Mead Twp |  |  |  | X
Clarendon Boro |  |  |  | X
Warren Boro |  |  |  | X
Pleasant Township |  |  |  | X
Glade Township |  |  |  | X
* * * * * * *

* * * * *

[FR Doc. 04-14822 Filed 6-30-04; 8:45 am]

BILLING CODE 6560-50-P